DEPARTMENT OF EDUCATION

Office of Elementary and Secondary Education_Safe and Drug-Free Schools and Communities National Programs; Federal Activities Grant Program_Middle School Drug Prevention and School Safety Program Coordinators

AGENCY: Department of Education.

ACTION: Notice of proposed priority, definitions, and selection criteria for Fiscal Year (FY) 2000 and subsequent years.

SUMMARY: The Secretary announces the proposed priority, definitions, and selection criteria for FY 2000, and, at the discretion of the Secretary, for subsequent years under the Safe and Drug-Free Schools and Communities (SDFSC) National Programs Federal Activities Grants Program for the Middle School Drug Prevention and School Safety Program Coordinators competition. The Secretary takes this action to focus Federal financial assistance on a national need to recruit, hire, and train persons to serve as drug prevention and school safety program coordinators in middle schools that have significant drug, discipline and violence problems.

DATES: Comments must be received by the Department on or before March 15, 2000.

ADDRESSES: All comments concerning this proposed priority, definitions, and selection criteria should be addressed to Deirdra R. Hilliard, U.S. Department of Education, 400 Maryland Avenue, SW, 3E256, Washington, DC 20202-6123. Comments may be sent through the Internet: comments@ed.gov. You must include the term “Middle School Coordinator” in the subject line of your electronic message.

FOR FURTHER INFORMATION CONTACT: Deirdra R. Hilliard, (202) 260-2643. Individuals who use a telecommunications device for the deaf (TDD) may call the Federal Information Relay Service (FIRS) at 1-800-877-8339 between 8 a.m. and 8 p.m., Eastern time, Monday through Friday.

Individuals with disabilities may obtain this document in an alternative format (e.g. Braille, large print, audiotape, or computer diskette) upon request to the contact person listed above.

Note: This notice does not solicit applications. A notice inviting applications under this competition will be published in the Federal Register concurrent with or following the publication of the notice of final priority, definitions, and selection criteria. The notice inviting applications will specify the date and time by which applications for this competition must be received by the Department. Applications received after that time will not be eligible for funding. Postmarked dates will not be accepted.

SUPPLEMENTARY INFORMATION:

Invitation To Comment

Interested persons are invited to submit comments and recommendations regarding this proposed priority, definitions, and selection criteria. All comments submitted in response to this notice will be available for public inspection, during and after the comment period, in Room 3E222, 400 Maryland Avenue, SW, Washington, DC, between the hours of 8:30 a.m. and 4 p.m., Eastern time, Monday through Friday of each week except Federal holidays. On request, the Department supplies an appropriate aid, such as a reader or print magnifier, to an individual with a disability that needs assistance to review the comments. An individual with a disability who wants to schedule an appointment for this type of aid may call (202) 205-8113 or (202) 260-9895. An individual who uses a TDD may call the Federal Information Relay Service (FIRS) at 1-800-877-8339, between 8 a.m. and 8 p.m., Eastern time, Monday through Friday.

Under the Safe and Drug-Free Schools and Communities (SDFSC) National Programs Federal Activities Grants Program for the Middle School Drug Prevention and School Safety Program Coordinators competition the Secretary plans to make awards for up to 36 months to local educational agencies.

In making awards under this grant program, the Secretary may take into consideration the geographic distribution in addition to the rank order of applicants.

Contingent upon the availability of funds, the Secretary may make additional awards in fiscal year 2001 from the rank-ordered list of unfunded applications from this competition.

Definitions

The Secretary proposes that the following definitions apply to this competition:

(a) Middle schools are defined as any school serving students in two or more grades from grades five through nine. (Note: Students in grades lower than five or higher than nine are not eligible to be served under this priority.)

(b) Local educational agencies (LEAs) with the most significant problems in their middle schools are defined as those that have identified drug use, drug prevention and school safety as a serious problem in their most recent needs assessment and that have taken one or more of the following actions within the 12 months preceding the date of this announcement:

(1) Suspended, expelled, or transferred to alternative schools or programs at least one middle school student for possession, distribution, or use of alcohol or drugs, including tobacco;

(2) Referred for treatment of substance abuse at least five middle school students;

(3) Suspended, expelled, or transferred to alternative schools or programs at least one middle school student for possession or use of a firearm or other weapon;

(4) Suspended, expelled or transferred to alternative schools or programs at least five middle school students for physical attacks or fights.

Absolute Priority

Under 34 CFR 75.105(c )(3) and the Safe and Drug-Free Schools and Communities Act, the Secretary proposes to give an absolute preference to applications that meet the following priority. The Secretary proposes to fund under this competition only applications that meet this absolute priority.

Under the proposed absolute funding priority for this grant competition, LEAs with significant drug, discipline, or school safety problems in their middle schools must propose projects that—

(a) Recruit, hire, and train full-time drug prevention and school safety program coordinator(s) for their middle schools with significant drug, discipline or school safety problems;

(b) Require coordinators hired with funds under this priority to perform at least the following functions in one or more middle schools with significant drug, discipline or school safety problems:

(1) Identify research-based drug and violence prevention strategies and programs;

(2) Assist schools in adopting the most successful strategies, including training of teachers and staff and relevant partners, as needed;

(3) Develop, conduct, and analyze assessments of school crime and drug problems;

(4) Work with community agencies and organizations to ensure that students' needs are met;

(5) Work with parents and students to obtain information about effective programs and strategies and encourage their participation in program selection and implementation;

(6) Facilitate evaluation of prevention programs and strategies and use findings to modify programs, as needed;

(7) Identify additional funding sources for drug prevention and school safety program initiatives;

(8) Provide feedback to SEAs on programs and activities that have proven to be successful in reducing drug use and violent behavior;

(9) Coordinate with student assistance and employee assistance programs; and

(10) Link other educational resources, e.g. Title I compensatory education funds, to programs and strategies that serve to create safer, more orderly schools; and

(c) Have measurable goals and objectives and report annually on progress toward meeting those goals and objectives.

Local educational agencies may apply for funding under this proposed priority to hire one or more coordinators to serve middle schools in the district. Each coordinator hired with funds from this grant must:

(1) Serve at least one middle school but no more than seven middle schools;

(2) Serve only students in two or more grades from grades five through nine;

Note: Students in grades lower than five or higher than nine are not eligible to be served under this proposed priority.

(3) Have no duties other than coordination of drug prevention or school safety programs;

(4) At a minimum, have a degree from an accredited four-year institution of higher education and an academic background or equivalent work experience in a field related to youth development, such as education, psychology, sociology, social work, or nursing.

LEAs may apply in consortia with one or more adjacent LEAs; however, each participating LEA must ensure that all requirements of the priority for this competition are met.

Selection Criteria

The Secretary proposes to use the following selection criteria to evaluate applications for new grants under this competition. The maximum score for all of these criteria is 100 points.

(1) Need for the Project (25 Points)

In determining the need for the proposed project, the following factor is considered: The extent to which specific gaps or weaknesses in services, infrastructure, or opportunities have been identified and will be addressed by the proposed project, including the nature and magnitude of those gaps or weaknesses.

(2) Quality of the Project Design (25 Points)

In determining the quality of the design of the proposed project, the following factors are considered:

(A) The extent to which the design of the proposed project is appropriate to, and will successfully address, the needs of the target population;

(B) The extent to which the proposed project is designed to build capacity and yield results that will extend beyond the period of Federal financial assistance;

(C) The extent to which the proposed project will establish linkages with other appropriate agencies and organizations providing services to the target population, including community coalitions;

(D) The extent to which the proposed project encourages parental involvement; and

(E) The extent to which performance feedback and continuous improvement are integral to the design of the proposed project.

(3) Adequacy of Resources (25 Points)

In determining the adequacy of resources, the following factors are considered:

(A) The adequacy of support, including facilities, equipment, supplies, and other resources from the applicant organization or the lead applicant organization;

(B) The extent to which the costs are reasonable in relation to the number of persons to be served and to the anticipated results and benefits;

(C) The potential for continued support of the project after Federal funding ends, including, as appropriate, the demonstrated commitment of appropriate entities to such support; and

(D) The potential for the incorporation of project purposes, activities, or benefits into the ongoing program of the agency or organization at the end of federal funding.

(4) Quality of the Project Evaluation (25 Points)

In determining the quality of the project evaluation, the following factors are considered:

(A) The extent to which the methods of evaluation are appropriate to the context within which the project operates;

(B) The extent to which the methods of evaluation provide for examining the effectiveness of project implementation strategies; and

(C) The extent to which the methods of evaluation will provide performance feedback and permit periodic assessment of progress toward achieving intended outcomes.

Intergovernmental Review

This program is subject to the requirements of Executive Order 12372 and the regulations in 34 CFR part 79. The objective of the Executive Order is to foster an intergovernmental partnership and a strengthened federalism by relying on processes developed by State and local government for coordination and review of proposed Federal financial assistance.

In accordance with this order, this document is intended to provide early notification of the Department's specific plans and actions for this program.

Program Authority: 20 U.S.C. 7131

Electronic Access to This Document

Department of Education documents are published in the Federal Register, in text or portable document format (PDF) on the Internet at either of the following sites:

http://www.ocfo.ed.gov/fedreg.htm

http://www.ed.gov/news.html.

To use PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84-184K, Safe and Drug-Free Schools and Communities Act National Programs—Federal Activities Grants Program)

Dated: February 9, 2000.
Michael Cohen,
Assistant Secretary for Elementary and Secondary Education.

[FR Doc. 00-3477 Filed 2-11-00; 8:45 am]

BILLING CODE 4000-01-U